COMMODITY FUTURES TRADING COMMISSION

17 CFR Part 1

RIN 3038-AC15

Investment of Customer Funds and Record of Investments

Correction

In rule document 05-9794 beginning on page 28190 in the issue of Tuesday, May 17, 2005, make the following correction:

§ 1.25 [Corrected]

On page 28201, 1.25(b)(3)(i)(B) is corrected to read as follows:

“(B) An instrument that meets the requirements of paragraph (b)(3)(iv) of this section may provide for a cap, floor, or collar on the interest paid;

provided, however, that the terms of such instrument obligate the issuer to repay the principal amount of the instrument at not less than par value upon maturity.”

[FR Doc. C5-9794 Filed 6-3-05; 8:45 am]

BILLING CODE 1505-01-D